DEPARTMENT OF AGRICULTURE

Submission for OMB Review; Comment Request

June 22, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Supplemental Nutrition Assistance Program Connection Resource Sharing Form.

OMB Control Number: 0518-0031.

Summary of Collection: In 2008, the Food Stamp Program was renamed the Supplemental Nutrition Assistance Program (SNAP) and the Food Stamp Nutrition Connection became the SNAP-ED Connection. Date collected using this form helps the SNAP-Ed Connection staff identify nutrition education and training resources for review and inclusion into the SNAP-Ed Connection's Resource Finder Database. State and local SNAP-Ed providers can use this database to identify and acquire existing, available nutrition education materials.

Need and Use of the Information: SNAP-ED Connection staff members use information collected by the Resource Sharing Form to build and constantly enhance the online database of nutrition education and training materials known as the Resource Finder Database. SNAP-Ed providers access and use the database to identify and obtain curricula, lesson plan, research, training tools and participant materials. Vital information about these resources, such as a description of the resource, its creator, publisher and ordering information is collected using the Resource Sharing Form. Failure to collect this information would significantly inhibit SNAP-Ed Connection ability to provide up-to-date information on existing nutrition education materials that are appropriate for SNAP-Ed programs and providers.

Description of Respondents: Not-for-profit institutions; State, Local or Tribal Government.

Number of Respondents: 50.

Frequency of Responses: Reporting: On occasion.

Total Burden Hours: 16.

Ruth Brown,
Departmental Information Collection Clearance Officer.

[FR Doc. 2011-16071 Filed 6-27-11; 8:45 am]

BILLING CODE 3410-03-P